DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of 24 individuals and 6 entities whose property and interests in property have been unblocked pursuant to Executive Order 12978 of October 21, 1995, “Blocking Assets and Prohibiting Transactions With Significant Narcotics Traffickers”.

DATES: The unblocking and removal from the list of Specially Designated Nationals and Blocked Persons (“SDN List”) of the 24 individuals and 6 entities identified in this notice whose property and interests in property were blocked pursuant to Executive Order 12978 of October 21, 1995, is effective on October 10, 2012.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On October 10, 2012, the Director of OFAC removed from the SDN List the 24 individuals and 6 entities listed below, whose property and interests in property were blocked pursuant to the Order:

Individuals:

1. ARANA MARIA, Jairo Abraham, c/o DESARROLLOS URBANOS “DESARROLLAR” LTDA., Barranquilla, Colombia; Calle 74 No. 53-30, Barranquilla, Colombia; c/o INMOBILIARIA DEL CARIBE LTDA., Barranquilla, Colombia; c/o INMOBILIARIA HOTELERA DEL CARIBE LTDA., Barranquilla, Colombia; c/o INVERSIONES HOTELERAS DEL LITORAL LTDA., Barranquilla, Colombia; c/o INVERSIONES PRADO TRADE CENTER LTDA., Barranquilla, Colombia; c/o NEGOCIOS Y PROPIEDADES DEL CARIBE LTDA., Barranquilla, Colombia; c/o SURAMERICANA DE HOTELES LTDA., Barranquilla, Colombia; c/o GRAN COMPANIA DE HOTELES LTDA., Barranquilla, Colombia; c/o HOTELES E INMUEBLES DE COLOMBIA LTDA., Barranquilla, Colombia; c/o EDIFICACIONES DEL CARIBE LTDA., Barranquilla, Colombia; DOB 08 Feb 1953; alt. DOB 02 May 1946; alt. DOB 21 May 1946; Cedula No. 7450538 (Colombia); Passport Z4966601 (Colombia); alt. Passport K1030420 (Colombia) (individual) [SDNT].

2. ARIAS DE RESTREPO, Mariella, c/o DISTRIBUIDORA AGROPECUARIA COLOMBIANA S.A., Cali, Colombia; c/o MATERIAS PRIMAS Y SUMINISTROS S.A., Bogota, Colombia; c/o AGRO MASCOTAS S.A., Bogota, Colombia; DOB 19 Nov 1958; Cedula No. 38437571 (Colombia) (individual) [SDNT].

3. BEDOYA DE SANCLEMENTE, Maria Ninive, c/o DISTRIBUCIONES GLOMIL LTDA., Cali, Colombia; DOB 13 Jul 1938; Cedula No. 29645304 (Colombia); Passport 29645304 (Colombia); NIT # 29645304-8 (Colombia) (individual) [SDNT].

4. ESPANA CUELLAR, Irlena, c/o COLPHAR S.A., Bogota, Colombia; DOB 28 Feb 1965; Cedula No. 40764759 (Colombia); Passport 40764759 (Colombia) (individual) [SDNT].

5. FERNANDEZ VIEJO, Alfredo, c/o INVERSIONES EL PROGRESO S.A., Cartagena, Colombia; DOB 15 Dec 1954; Cedula No. 206946 (Extranjeria) (Colombia) (individual) [SDNT].

6. FORERO SALAMANCA, Sonia Viviana, c/o COPSERVIR LTDA., Bogota, Colombia; c/o CREDIREBAJA S.A., Cali, Colombia; c/o INTERFARMA S.A., San Jose, Costa Rica; c/o JOMAGA DE COSTA RICA S.A., San Jose, Costa Rica; DOB 16 Oct 1975; Cedula No. 52342283 (Colombia); Passport 52342283 (Colombia) (individual) [SDNT].

7. FRANCO VALENCIA, Fabio Hernan, Carrera 4 No. 11-45 Ofc. 506, Cali, Colombia; c/o COMPANIA DE FOMENTO MERCANTIL S.A., Cali, Colombia; c/o GEOPLASTICOS S.A., Cali, Colombia; c/o CIA. MINERA DAPA S.A., Bogota, Colombia; c/o CIA. ANDINA DE EMPAQUES LTDA., Cali, Colombia; c/o OCCIDENTAL DE PAPELES LTDA., Cali, Colombia; DOB 06 Dec 1940; POB Cali, Valle, Colombia; Cedula No. 6076743 (Colombia); Passport 6076743 (Colombia) (individual) [SDNT].

8. GARZON RESTREPO, Juan Leonardo, c/o BLANCO PHARMA S.A., Bogota, Colombia; c/o PENTACOOP LTDA., Bogota, Colombia; c/o PENTA PHARMA DE COLOMBIA S.A., Bogota, Colombia; c/o DISTRIBUIDORA MYRAMIREZ S.A., Cali, Colombia; c/o ALFA PHARMA S.A., Bogota, Colombia; c/o INVERSIONES ARA LTDA., Cali, Colombia; Carrera 7P No. 76-90, Cali, Colombia; Diagonal 53 No. 38A-20 apt. 103, Bogota, Colombia; c/o LABORATORIOS GENERICOS VETERINARIOS DE COLOMBIA S.A., Bogota, Colombia; c/o LABORATORIOS KRESSFOR DE COLOMBIA S.A., Bogota, Colombia; c/o DROGAS LA REBAJA, Cali, Colombia; c/o VALORES MOBILIARIOS DE OCCIDENTE S.A., Bogota, Colombia; c/o FARMATODO S.A., Bogota, Colombia; DOB 14 Jan 1962; Cedula No. 16663709 (Colombia) (individual) [SDNT].

9. GIRALDO RUBIO, Marleni, c/o MAGEN LTDA., Bogota, Colombia; c/o DISFOGEN LTDA., Bogota, Colombia; Cedula No. 51760752 (Colombia); Passport 51760752 (Colombia) (individual) [SDNT].

10. GIRALDO SARRIA, Rosa Amelia, c/o INMOBILIARIA U.M.V. S.A., Cali, Colombia; DOB 18 Aug 1974; Cedula No. 43821679 (Colombia) (individual) [SDNT].

11. GONZALEZ MARTINEZ, Francisco Javier, c/o ADMINISTRADORA DE SERVICIOS VARIOS CALIMA S.A., Cali, Colombia; c/o CHAMARTIN S.A., Cali, Colombia; c/o SERVICIOS DE LA SABANA E.U., Bogota, Colombia; Cedula No. 16693353 (Colombia); Passport 16693353 (Colombia) (individual) [SDNT].

12. JARAMILLO ARIAS, Gustavo Alfonso, c/o FARMATEL E.U., Bogota, Colombia; Cedula No. 16601998 (Colombia); Passport 16601998 (Colombia) (individual) [SDNT].

13. MARTIN DIAZ, John Edward, c/o AGRO MASCOTAS S.A., Bogota, Colombia; DOB 20 Jun 1974; Cedula No. 79668278 (Colombia); Passport 79668278 (Colombia) (individual) [SDNT].

14. MENDOZA RODRIGUEZ, Ana Janeth, c/o ADMACOOP, Bogota, Colombia; c/o CREDISOL, Bogota, Colombia; DOB 06 Jul 1963; Cedula No. 51721267 (Colombia); Passport 51721267 (Colombia) (individual) [SDNT].

15. MONSALVE HERNANDEZ, Laris, c/o COMERCIALIZADORA DE PRODUCTOS FARMACEUTICOS LTDA., Ibague, Colombia; c/o MATERIAS PRIMAS Y SUMINISTROS S.A., Bogota, Colombia; DOB 10 Apr 1953; Cedula No. 41590169 (Colombia); Passport 41590169 (Colombia) (individual) [SDNT].

16. RAMIREZ AZA, Hernan, c/o IMPORT MAPRI LTDA., Bogota, Colombia; Cedula No. 17083264 (Colombia); Passport 17083264 (Colombia) (individual) [SDNT].

17. RAMIREZ AZA, Jose Manuel, c/o IMPORT MAPRI LTDA., Bogota, Colombia; c/o WORLD TRADE LTDA., Ibague, Colombia; DOB 14 Aug 1939; Cedula No. 2889531 (Colombia); Passport 2889531 (Colombia) (individual) [SDNT].

18. RAMIREZ GACHA, Ivan, c/o MATERIAS PRIMAS Y SUMINISTROS S.A., Bogota, Colombia; DOB 30 Sep 1963; Cedula No. 79310808 (Colombia); Passport 79310808 (Colombia) (individual) [SDNT].

19. RODRIGUEZ LINARES, Oswaldo, c/o DROFARCO, Barranquilla, Colombia; DOB 13 Nov 1969; Cedula No. 76310365 (Colombia); Passport 76310365 (Colombia) (individual) [SDNT].

20. SANTACOLOMA JARAMILLO, Gloria Maria (a.k.a. SANTACOLOMA DE JARAMILLO, Gloria Maria; a.k.a. SANTACOLOMA HOYOS, Gloria Maria), c/o REPRESENTACIONES Y DISTRIBUCIONES HUERTAS Y ASOCIADOS S.A., Bogota, Colombia; c/o FARMATEL E.U., Bogota, Colombia; DOB 26 Jul 1962; Cedula No. 31886388 (Colombia); Passport 31886388 (Colombia) (individual) [SDNT].

21. SERRANO SILVA, Luz Esperanza, c/o MAGEN LTDA., Bogota, Colombia; Cedula No. 51822684 (Colombia); Passport 51822684 (Colombia) (individual) [SDNT].

22. VIEDMA ABONCE, Marisol, c/o ALMACEN Y COMPRAVENTA LOS 3 OROS, Cartago, Valle, Colombia; c/o MOTEL MOMENTOS E.U., Cartago, Valle, Colombia; Calle 10B No. 14A-90 Manz. C Casa 14, Cartago, Valle, Colombia; DOB 30 Mar 1970; Cedula No. 31415437 (Colombia) (individual) [SDNT].

23. VILLEGAS BOLANOS, Silver Amido, c/o CONSULTORIA EMPRESARIAL ESPECIALIZADA LTDA., Cali, Colombia; c/o GANADERIAS DEL VALLE S.A., Cali, Colombia; c/o CONCRETOS CALI S.A., Cali, Colombia; c/o ADMINISTRACION INMOBILIARIA BOLIVAR S.A., Cali, Colombia; DOB 15 Aug 1954; Cedula No. 10480869 (Colombia) (individual) [SDNT].

24. VILLOTA GALVIS, Eliseo Fernando, c/o LABORATORIOS KRESSFOR DE COLOMBIA S.A., Bogota, Colombia; c/o FARMACOOP, Bogota, Colombia; c/o CODISA, Bogota, Colombia; c/o JOMADA DE COSTA RICA S.A., San Jose, Costa Rica; c/o MATSUM S.A., Bogota, Colombia; DOB 13 May 1945; Cedula No. 17118703 (Colombia); Passport 17118703 (Colombia) (individual) [SDNT].

Entities:

1. AGRO MASCOTAS S.A. (a.k.a. AGROPECUARIA 100%; a.k.a. AGROPECUARIA EL ARBOLITO; a.k.a. AGROPECUARIA EL GALLO; a.k.a. AGROPECUARIA LA COLMENA; a.k.a. AGROPECUARIA LA HORMIGA; a.k.a. AGROTODO; a.k.a. AGROTORO), Avenida 3 Bis No. 23CN-13, Cali, Colombia; Calle 19 No. 12-36, Tunja, Colombia; Calle 1N No. 4-36, Popayan, Colombia; Calle 28 No. 27-06, Palmira, Colombia; Calle 3 No. 11-104, Santander de Quilichao, Colombia; Calle 35 No. 27-69, Villavicencio, Colombia; Calle 35 No. 27-83, Villavicencio, Colombia; Carrera 1 No. 14-41, Ibague, Colombia; Carrera 10 No. 11-14 Esq., Jamundi, Colombia; Carrera 10 No. 12-02 Esq., Girardot, Colombia; Carrera 10 No. 18-02, Pereira, Colombia; Carrera 13 No. 13-41, Bogota, Colombia; Carrera 13 No. 15-42, Santa Rosa, Colombia; Carrera 14 No. 18-51, Armenia, Colombia; Carrera 16 No. 43-15, Dos Quebradas, Colombia; Carrera 18 No. 22-17, Manizales, Colombia; Carrera 19 No. 11-52, Dutaima, Colombia; Carrera 2 No. 13-17, Puerto Boyaca, Colombia; Carrera 23 No. 29-03, Tulua, Colombia; Carrera 2A No. 15-10, Dorada, Colombia; Carrera 33 No. 19-35, Villavicencio, Colombia; Carrera 4 No. 16-87, Soacha, Colombia; Carrera 7 No. 12-58, Cartago, Colombia; Transversal 29 No. 39-92, Bogota, Colombia; NIT # 815002808-1 (Colombia) [SDNT].

2. CREDISOL (a.k.a. COOPERATIVA DE AHORRO Y CREDITO PARA EL PROGRESO SOCIAL; a.k.a. COOPERATIVA MULTIACTIVA CREDISOL), Calle 39 Bis A No. 27-16, Bogota, Colombia; Transversal 29 No. 39-92, Bogota, Colombia; NIT # 830033943-3 (Colombia) [SDNT].

3. FARMATEL E.U. (a.k.a. TELEFARMA E.U.), Calle 93 No. 16-75, Bogota, Colombia [SDNT].

4. INVERSIONES BOMBAY S.A. (a.k.a. AGROVETERINARIA EL TORO; a.k.a. AGROVETERINARIA EL TORO #2), Transversal 29 No. 39-92, Bogota, Colombia; Calle 12B No. 28-50, Bogota, Colombia; Avenida 3 Bis Norte No. 23CN-69, Cali, Colombia; Calle 7 No. 25-69, Cali, Colombia; NIT # 830019226-2 (Colombia) [SDNT].

5. LABORATORIOS GENERICOS VETERINARIOS DE COLOMBIA S.A, Carrera 71 No. 57-07, Bogota, Colombia [SDNT].

6. TECNOVET LTDA.TECNICAS VETERINARIAS TECNOVET LTDA. (a.k.a. TECNOVET LTDA.), Carrera 13 No. 13-41, Bogota, Colombia; NIT # 830092117-8 (Colombia) [SDNT].

Dated: October 10, 2012.
Adam J. Szubin,
Director, Office of Foreign Assets Control.

[FR Doc. 2012-25295 Filed 10-15-12; 8:45 am]

BILLING CODE 4810-AL-P